ENVIRONMENTAL PROTECTION AGENCY

[FRL-9991-22-OA]

Meetings of the Local Government Advisory Committee and the Small Communities Advisory Subcommittee

AGENCY: Environmental Protection Agency (EPA).

ACTION: Notice.

SUMMARY: The Local Government Advisory Committee (LGAC) will meet in Washington, DC, on Thursday, May 2, 2019, 9:30 a.m.-5:35 p.m. (EDT), and Friday, May 3, 2019, 10:00 a.m.-12:30 p.m. (EDT). The focus of the Committee meeting will be on issues pertaining to water and water infrastructure issues; Waters of the U.S., emerging contaminants; superfund and brownfields; risk communication and other issues in EPA's Strategic Plan. The Small Communities Advisory Subcommittee (SCAS) will meet in Washington, DC, on Friday, May 3, 2019, 8:00 a.m.-9:00 a.m. (EDT). The Subcommittee will discuss water infrastructure, community revitalization, agricultural issues, and other issues and recommendations to the Administrator regarding environmental issues affecting small communities.

These are open meetings, and all interested persons are invited to participate. The SCAS will hear comments from the public between 8:40 a.m. and 8:45 a.m. on Friday, May 3, 2019. The LGAC will hear comments from the public between and 10:20 a.m. and 10:30 a.m. on Friday, May 3, 2019. Individuals or organizations wishing to address the Subcommittee or the Committee will be allowed a maximum of five minutes to present their point of view. Also, written comments should be submitted electronically to eargle.frances@epa.gov for the LGAC and to mercurio.cristina@epa.gov for the SCAS. Please contact the Designated Federal Officers (DFO) at the numbers listed below to schedule a time on the agenda. Time will be allotted on a first-come first-serve basis, and the total period for comments may be extended if the number of requests for appearances requires it.

ADDRESSES: The Local Government Advisory Committee meetings will be held at the U.S. Environmental Protection Agency, Conference Room 1153, William Jefferson Clinton EPA East Building, 1201 Constitution Avenue NW, Washington, DC 20460. The Small Communities Advisory Subcommittee meetings will be held at the U.S. Environmental Protection Agency, Conference Room 1153, William Jefferson Clinton EPA East Building, 1201 Constitution Avenue NW, Washington, DC 20460. Meeting summaries will be available after the meeting online at www.epa.gov/ocir/scas_lgac/lgac_index.htm and can be obtained by written request to the DFO. In the event of cancellation for unforeseen circumstances, please contact the the designated federal officer(s) for reschedule information.

FOR FURTHER INFORMATION CONTACT: Local Government Advisory Committee (LGAC) contact Frances Eargle, Designated Federal Officer, at (202) 564-3115 or email at eargle.frances@epa.gov. and Small Communities Advisory Subcommittee (SCAS), contact Cristina Mercurio, Designated Federal Officer, at (202) 564-6481 or email at mercurio.cristina@epa.gov.

Information on Services for Those With Disabilities: For information on access or services for individuals with disabilities, please contact Frances Eargle at (202) 564-3115 or email at eargle.frances@epa.gov . To request accommodation of a disability, please request it 10 days prior to the meeting, to give EPA as much time as possible to process your request.

Dated: March 11, 2019.
Jack Bowles,
Director, State and Local Relations, Office of Congressional and Intergovernmental Relations.

[FR Doc. 2019-06130 Filed 3-28-19; 8:45 am]

BILLING CODE 6560-50-P